FEDERAL COMMUNICATIONS COMMISSION

Notice of Public Information Collection(s) Being Reviewed by the Federal Communications Commission for Extension Under Delegated Authority

February 18, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 26, 2004. If you anticipate that you will be submitting comments, but find it difficult to do so within the period of time allowed by this notice, you should advise the contact listed below as soon as possible.

ADDRESSES: Direct all Paperwork Reduction Act (PRA) comments to Les Smith, Federal Communications Commission, 445 12th Street, SW, Room 1-A804, Washington, DC 20554 or via the Internet to Leslie.Smith@fcc.gov.

FOR FURTHER INFORMATION CONTACT: For additional information or copies of the information collections contact Les Smith at (202) 418-0217 or via the Internet at Leslie.Smith@fcc.gov.

SUPPLEMENTARY INFORMATION: OMB Control Number: 3060-0967.

Title: Section 79.2, Accessibility of Programming Providing Emergency Information.

Form Number: N/A.

Type of Review: Extension of currently approved collection.

Respondents: Business or other for-profit entities, Individuals or household; Not-for-profit institutions; and State, local or tribal government.

Number of Respondents: 100.

Estimated Hours per Response: 1 hour.

Frequency of Response: On occasion reporting requirement.

Total Annual Burden: 275 hours.

Total Annual Cost: $5,000.

Needs and Uses: On July 21, 2000, the Commission adopted a Report and Order, In the Matter of Implementation of Video Description of Video Programming, in MM Docket No. 99-339. This Report and Order adopted video description rules to make television more accessible to persons with visual disabilities. Among other things, the Report and Order requires any broadcast station or multiple video programming distributor (MVPD) that provides local emergency information as part of a regularly scheduled newscast, or as part of a newscast that interrupts regularly scheduled programming, to make the critical details of the information accessible to persons with visual disabilities in the affected local area. In addition, any broadcast station or MVPD that provides emergency information through a crawl or scroll must accompany that information with an aural tone to alert persons with visual disabilities that the station or MVPD is providing this information. Under 47 CFR 79.2(c) a complaint alleging a violation of this section may be transmitted to the FCC. The complaint should include the name of the video programming distributor against whom the complaint is alleged, the date and time of the omission of emergency information, and the type of emergency. The FCC will notify the video programming distributor of the complaint, and the distributor must respond to the complaint within 30 days.

Federal Communications Commission.
Marlene H. Dortch,
Secretary.

[FR Doc. 04-3976 Filed 2-23-04; 8:45 am]

BILLING CODE 6712-01-P